DEPARTMENT OF TRANSPORTATION

Federal Aviation Administration

Aviation Rulemaking Advisory Committee; Transport Airplane and Engine Issue Area—New Task

AGENCY: Federal Aviation Administration (FAA), DOT.

ACTION: Notice of a new task assignment for the Aviation Rulemaking Advisory Committee (ARAC).

SUMMARY: Notice is given of a new task assignment for the Aviation Rulemaking Advisory Committee (ARAC). This notice is to inform the public of this ARAC activity and solicit membership to a new Propeller Harmonization Working Group to support ARAC in developing advice and recommendations on this new task.

FOR FURTHER INFORMATION CONTACT: Jay Turnberg, Rulemaking and Policy Branch, Engine and Propeller Directorate, ANE-110, Federal Aviation Administration, 12 New England Executive Park, Burlington, Massachusetts 01803; telephone (781) 238-7116; facsimile (781) 238-7199; e-mail jay.turnberg@faa.gov.

SUPPLEMENTARY INFORMATION:

Background

On January 22, 1991 (56 FR 2190), the Federal Aviation Administration (FAA) established the Aviation Rulemaking Advisory Committee (ARAC) to provide advice and recommendations to the FAA Administrator on the FAA's rulemaking activities for aviation-related issues. This includes obtaining advice and recommendations on the FAA's commitments to harmonize Title 14 of the Code of Federal Regulations (14 CFR) with its partners in Europe, Canada, and Brazil.

In order to develop such advice and recommendations, the ARAC may choose to establish a working group to which a specific task is assigned. The working group would be comprised of experts from those organizations having an interest in the assigned task. A working group member need not be a representative of the full committee. For this task, ARAC has chosen to establish a new Propeller Harmonization Working Group.

In 1999, the Propeller Harmonization Working Group (PHWG) reached consensus on a harmonized version of part 35 and JAR-P, with a few exceptions, and submitted those proposed requirements to the ARAC. The PHWG has been inactive for a number of years. Because ARAC was unable to reach consensus on a propeller critical parts requirement, the FAA decided to table the issue for re-evaluation at a future date. Subsequently, the European Aviation Safety Agency (EASA) published CS-P 160 Propeller Critical Parts Integrity rule. The FAA does not have a similar requirement; however, we believe a requirement for propeller critical parts warrants consideration for inclusion in 14 CFR part 35. We have asked ARAC to address this new task as part of the Transport Airplane and Engine (TAE) Issues. ARAC has decided to establish a new Propeller Harmonization Working Group to support this activity.

The Task

The ARAC has accepted the task to provide information about specific propeller critical parts integrity requirements for part 35, and make recommendations for revising part 35 and guidance material, as appropriate. The Propeller Harmonization Working Group (PHWG) will—

1. Review the background and intent of relevant existing requirements, existing guidance material, related ARAC recommendations on part 35, and the current EASA requirements for propeller critical parts integrity.

2. Develop a report containing recommendations for rulemaking or guidance material, or both, and explain the rationale and safety benefits for each proposed change. The report will define a standardized approach for applying specific propeller critical parts integrity in the appropriate circumstances. The FAA will define the report format to ensure the report contains the necessary information for developing a Notice of Proposed Rulemaking (NPRM), Advisory Circular (AC), or both.

3. Make recommendations to ARAC for acceptance and submission to the FAA.

If a NPRM or proposed AC is published for public comment as a result of the recommendations from this tasking, the FAA may ask ARAC to review the comments received and provide a recommendation for disposition of comments for each issue.

ARAC Acceptance of Task

ARAC accepted the task and will establish a new Propeller Harmonization Working Group to serve as staff to the ARAC and assist in the analysis of the task. ARAC must review and approve the working group's recommendations. If ARAC accepts the working group's recommendations, it will forward them to the FAA. The FAA will submit the recommendations it receives to the agency's Rulemaking Management Council to address the availability of resources and prioritization.

Working Group Activity

The PHWG must comply with the procedures adopted by ARAC. As part of the procedures, the working group must:

1. Recommend a work plan for completion of the task, including the rationale supporting such a plan, for consideration at the next meeting of ARAC on Transport Airplane and Engine Issues held following publication of this notice.

2. Give a detailed conceptual presentation on the proposed recommendation(s), before continuing with the work stated in item 3 below.

3. If proposed rule changes are recommended, provide supporting economic and other required analyses. If new or revised requirements or compliance methods are not recommended, provide a draft report stating the rationale for not making such recommendations; and

4. Provide a status report at each meeting of the ARAC held to consider propeller critical parts integrity issues.

Participation in the Working Group

The PHWG will be comprised of technical experts having an interest in the assigned task. A working group member does not need to be a representative or member of ARAC. The PHWG membership will have broad propeller critical parts integrity experience. As needed, the PHWG may organize, oversee, guide, and monitor the activities and progress of task groups comprised of subject matter experts (SMEs).

If you have expertise in the subject matter and wish to become a member of the working group, contact the person listed under the caption FOR FURTHER INFORMATION CONTACT. Describe your interest in the task and state the expertise you would bring to the working group. We must receive all requests by January 24, 2007. The assistant chair, the assistant executive director, and the FAA representative will review the requests and notify you if your request is approved.

If you are chosen for membership on the working group, you must represent your aviation community segment and actively participate in the working group by attending all meetings and provide written comments when requested to do so. You must devote the resources necessary to support the working group in meeting any assigned deadlines. You must keep your management chain and those you may represent advised of working group activities and decisions to ensure the proposed technical solutions don't conflict with your sponsoring organization's position when the subject being negotiated is presented to ARAC for approval. Once the working group has begun deliberations, members will not be added or substituted without the approval of the assistant chair, the assistant executive director, and the working group chair.

The Secretary of Transportation determined that the formation and use of the ARAC is necessary and in the public interest in connection with the performance of duties imposed on the FAA by law.

Meetings of the ARAC are open to the public. Meetings of the PHWG will not be open to the public, except to the extent individuals with an interest and expertise are selected to participate. The FAA will make no public announcement of working group meetings.

Issued in Washington, DC, on December 13, 2006.
Pamela Hamilton-Powell,
Executive Director, Aviation Rulemaking Advisory Committee.

[FR Doc. E6-21651 Filed 12-19-06; 8:45 am]

BILLING CODE 4910-13-P